FEDERAL RESERVE SYSTEM

A De Novo Corporation to do Business Under Section 25A of the Federal Reserve Act

An application has been submitted for the Board's approval of the organization of a corporation to do business under section 25A of the Federal Reserve Act (“Edge Corporation”) 12 U.S.C. Sec. 611 et seq. The factors that are to be considered in acting on the application are set forth in the Board's Regulation K (12 CFR 211.5).

The application listed below is available for immediate inspection at the Federal Reserve Bank indicated. The application also will be available for inspection at the offices of the Board of Governors. Any comment on an application that requests a hearing must include a statement of why a written presentation would not suffice in lieu of a hearing, identify specifically any questions of fact that are in dispute, and summarize the evidence that would be presented at a hearing.

Unless otherwise noted, comments regarding this application must be received at the Reserve Bank indicated or the offices of the Board of Governors not later than May 19, 2005.

A. Federal Reserve Bank of Philadelphia (Michael E. Collins, Senior Vice President) 100 North 6th Street, Philadelphia, Pennsylvania 19105-1521:

1. MBNA America Bank, N.A.; to establish an Edge Corporation, MBNA International Investment Corporation, both of Wilmington, Delaware.

Board of Governors of the Federal Reserve System, April 14, 2005.
Robert deV. Frierson,
Deputy Secretary of the Board.

[FR Doc. 05-7839 Filed 4-19-05; 8:45 am]

BILLING CODE 6210-01-S